DEPARTMENT OF JUSTICE

Notice of Lodging of Consent Decree Under the Comprehensive Environmental Response, Compensation and Liability Act (CERCLA)

In accordance with Departmental policy, 28 CFR 50.7, and with Section 122 of CERCLA, 42 U.S.C. 9622, notice is hereby given that on November 2, 2000, a proposed Consent Decree in United States v. Amerada Hess, et al., Civil Action No. 3: CV00-1912, was lodged with the United States District Court for the Middle District of Pennsylvania. In this action, brought pursuant to Sections 106, 107 and 113 of the Comprehensive Environmental Response, Compensation, and Liability Act of 1980 (“CERCLA”), as amended, 42 U.S.C. 9606, 9607 and 9613, the United States sought injunctive relief and the recovery of costs incurred by EPA in response to the release or threat of release of hazardous substances at the Butler Mine Tunnel Superfund Site, in Pittston Township, Luzerne County, Pennsylvania.

The Department of Justice will receive comments relating to the Consent Decree for a period of thirty (30) days from the date of this publication. Comments should be addressed to the Assistant Attorney General, Environment and Natural Resources Division, P.O. Box 7611, U.S. Department of Justice, Washington, DC 20044-7611, and should refer to D.J. Ref. 90-11-3-134/1.

The Consent Decree may be examined at the Office of the United States Attorney for the Middle District of Pennsylvania, c/o Justin Blewitt, Assistant U.S. Attorney, Federal Building Washington & Linden Streets, Scranton, PA 18501; and at U.S. EPA Region III, c/o Charles Hayden, 1650 Arch Street, Philadelphia, PA 19103. A copy of the Consent Decree may also be obtained by mail from the Consent Decree Library, P.O. Box 7611, U.S. Department of Justice, Washington, DC 20044-7611. In requesting a copy, please enclose a check in the amount of $40.25 (25 cents per page reproduction cost) payable to the Consent Decree Library.

Walker Smith,
Deputy Chief, Environmental Enforcement Section, Environment and Natural Resources Division.

[FR Doc. 00-29542 Filed 11-17-00; 8:45 am]

BILLING CODE 4410-15-M